DEPARTMENT OF COMMERCE

International Trade Administration

[A-570-851]

Certain Preserved Mushrooms from the People's Republic of China: Notice of Partial Rescission of Fourth Antidumping Duty Administrative Review

AGENCY: Import Administration, International Trade Administration, Department of Commerce.

ACTION: Notice of Partial Rescission of Fourth Antidumping Duty Administrative Review.

EFFECTIVE DATE: November 7, 2003.

FOR FURTHER INFORMATION CONTACT: Brian Smith or Jim Mathews, Import Administration, International Trade Administration, U.S. Department of Commerce, 14th Street and Constitution Avenue, N.W., Washington, D.C. 20230; telephone: (202) 482-1766 or (202) 482-2778, respectively.

SUPPLEMENTARY INFORMATION:

Background

On February 3, 2003, the Department published in the Federal Register (68 FR 5272) a notice of “Antidumping or Countervailing Duty Order, Finding, or Suspended Investigation; Opportunity To Request Administrative Review” of the antidumping duty order on certain preserved mushrooms from the People's Republic of China (“PRC”) for the period February 1, 2002, through January 31, 2003. On February 25, 2003, Green Fresh Foods (Zhangzhou) Co., Ltd. (“Green Fresh”) requested an administrative review of its sales. On February 28, 2003, Guangxi Yulin Oriental Co., Ltd. (“Guangxi Yulin”) requested an administrative review of its sales. Also, on February 28, 2003, the petitioner¹ requested an administrative review of the antidumping duty order for the following companies: China Processed Food Import & Export Company (“China Processed), Gerber Food (Yunnan) Co., Ltd. (“Gerber”), Green Fresh, Guangxi Yulin, Raoping Xingyu Foods Co., Ltd. (“Raoping”), Shantou Hongda Industrial General Corporation (“Shantou Hongda”), Shenxian Dongxing Foods Co., Ltd. (“Shenxian Dongxing”), Shenzhen Qunxingyuan Trading Co., Ltd. (“Shenzhen Qunxingyuan”), Xiamen Zhongjia Imp. & Exp. Co., Ltd. (“Zhongjia”), Zhangzhou Jingxiang Foods Co., Ltd. (“Jingxiang”), and Zhangzhou Longhai Minhui Industry and Trade Co., Ltd (“Minhui”). On March 6, 2003, Shantou Hongda and Shenxian Dongxing requested an administrative review of their sales.² On March 25, 2003, the Department published a notice of initiation of an administrative review of the antidumping duty order on certain preserved mushrooms from the PRC with respect to these companies. See Initiation of Antidumping and Countervailing Duty Administrative Reviews and Requests for Revocations in Part, 68 FR 14394.

¹ The petitioner is the Coalition for Fair Preserved Mushroom Trade which includes the American Mushroom Institute and the following domestic companies: L.K. Bowman, Inc., Modern Mushroom Farms, Inc., Monterey Mushrooms, Inc., Mount Laurel Canning Corp., Mushroom Canning Company, Southwood Farms, Sunny Dell Foods, Inc., and United Canning Corp.

² This request was originally filed on February 27, 2003, but was subsequently refiled on March 6, 2003, because the package containing the original request could not be located subsequent to the original filing.

On May 7, 2003, Raoping and Shenzhen Qunxingyuan requested that the Department rescind their respective reviews because they did not export to the United States during the period of review (“POR”). We confirmed the claims of Raoping and Shenzhen Qunxingyuan by reviewing data from U.S. Customs and Border Protection. See Memorandum to the File dated September 29, 2003, on file in Room B-099 of the Commerce Department. We received no comments on this memorandum from any party.

On June 12, 2003, the petitioner requested an extension of the deadline to withdraw its requests for review. On June 16, 2003, the Department granted the petitioner's request and extended the deadline until July 10, 2003. On August 7, 2003, the petitioner withdrew its request for an administrative review of Zhongjia and Minhui, following the Department's preliminary decision to rescind the new shipper review with respect to these companies due to the filing of improper certifications. See Certain Preserved Mushrooms from the People's Republic of China: Intent to Rescind Antidumping Duty New Shipper Review, 68 FR 45792 (August 4, 2003). On August 20, 2003, Zhongjia and Minhui requested that the data submitted on the record of the above-mentioned new shipper review be transferred to the record of the fourth administrative review.³ The petitioner objected to this request on September 2, 2003. On September 15, 2003, respondents Zhongjia and Minhui submitted a letter in opposition to the petitioner's August 7 review request withdrawal. On September 23, 2003, the petitioner submitted a letter in opposition to Zhongjia's and Minhui's September 15 letter.

³ In response to the Department's questionnaire issued in the fourth administrative review, both companies claimed they had no shipments of the subject merchandise during the POR other than the transactions covered in the new shipper review.

Partial Rescission of Review

Pursuant to section 351.213 (d)(1) of the Department's regulations, the Secretary will rescind an administrative review in whole or in part if a party that requested the review withdraws its request within ninety days of publication of the Federal Register notice that initiated the review. Section 351.213(d)(1) further provides that the Secretary may extend this time limit if the Secretary decides that it is reasonable to do so. The administrative review is still at the early stages of the proceeding, and the Department has not conducted verification or issued a preliminary determination. The Department has determined that it is reasonable to extend the time in which the petitioner can request a withdrawal of its request for the administrative review of Zhongjia and Minhui.

Zhongjia and Minhui contest the petitioners request and argue that the Department should continue with the administrative review covering their sales of subject merchandise. For purposes of our analysis, it is important to distinguish that Zhongjia and Minhui each requested a new shipper review but did not request an administrative review. This is in contrast to the situation in which a respondent requests both a new shipper review and an administrative review. Section 351.214(j) of the Department's regulations provides that if a party requests multiple reviews, the Department may choose to initiate one and not the other after consulting with the party. For example, in Certain In-Shell Roasted Pistachios From Iran: Notice of Initiation of New Shipper Countervailing Duty Review, 66 FR 59235, 59235-6 (November 27, 2001) (Pistachios from Iran), the respondent requested both a new shipper and an administrative review in a timely manner. Pursuant to 19 CFR 351.214(j), the Department only initiated the new shipper review. Had the new shipper review been rescinded in Pistachios from Iran under facts similar to those in this case, the Department would have considered continuing the administrative review. However, in this case, because neither Zhongjia nor Minhui submitted a request for an administrative review of their sales in a timely fashion, as required by 751(a)(1) of the Act, we are rescinding the administrative review of the antidumping duty order on certain preserved mushrooms from the PRC with respect to these two companies, as requested by the petitioner.

Furthermore, as neither Raoping nor Shenzhen Qunxingyuan exported the subject merchandise to the United States during the POR, we are rescinding this review of the antidumping duty order on certain preserved mushrooms from the PRC as to both Raoping and Shenzhen Qunxingyuan. This review will continue with respect to Gerber, Green Fresh, China Processed, Guangxi Yulin, Shantou Hongda, Shenxian Dongxing and Jingxiang.

This notice is published in accordance with section 777(i) of the Tariff Act of 1930, as amended, and 19 CFR 351.213(d)(4).

Dated: November 3, 2003.
Jeffrey May,
Deputy Assistant Secretary for Import Administration.

[FR Doc. 03-28124 Filed 11-6-03; 8:45 am]

BILLING CODE 3510-DS-S